DEPARTMENT OF COMMERCE

International Trade Administration

A-337-806

Notice of Final Results of Antidumping Duty Administrative Review, and Final Determination to Revoke the Order In Part: Individually Quick Frozen Red Raspberries from Chile

AGENCY: Import Administration, International Trade Administration, Department of Commerce.

SUMMARY: On August 8, 2006, the Department of Commerce published the preliminary results of the administrative review of the antidumping duty order on certain individually quick frozen red raspberries from Chile. The review covers seven producers/exporters of subject merchandise. We gave interested parties an opportunity to comment on the preliminary results. We have noted the changes made since the preliminary results below in the “Changes Since the Preliminary Results” section. The final results are listed below in the “Final Results of Review” section.

EFFECTIVE DATE: February 12, 2007.

FOR FURTHER INFORMATION CONTACT: Yasmin Nair or Brandon Farlander, AD/CVD Operations, Office 1, Import Administration, International Trade Administration, U.S. Department of Commerce, 14th Street and Constitution Avenue, NW, Washington DC 20230; telephone (202) 482-3813 or (202) 482-0182, respectively.

SUPPLEMENTARY INFORMATION:

Background

On August 8, 2006, the Department of Commerce (“the Department”) published Notice of Preliminary Results of Antidumping Duty Administrative Review, Notice of Intent to Revoke in Part: Individually Quick Frozen Red Raspberries from Chile, 71 FR 45000 (August 8, 2006) (“Preliminary Results”) in the Federal Register.

On September 28, 2006, we extended the deadline for parties to submit comments on the Preliminary Results until October 17, 2006, and we extended the deadline for parties to submit rebuttal comments until October 23, 2006. See Memorandum from Yasmin Bordas to File, “3rd Administrative Review of Individually Quick Frozen Raspberries from Chile,” dated September 28, 2006. We also informed the parties that the Department would accept comments relating to verification findings for Sociedad Agroindustrial Valle Frio Ltda. (“Valle Frio”) and its affiliated processor, Agricola Framparque (“Framparque”), seven days after issuance of the verification report, and that the Department would accept rebuttals to those comments five days later.

On October 17, 2006, the Department received case briefs from the petitioners, Pacific Northwest Berry Association, Lynden, Washington, and each of its individual members, Curt Maberry Farm; Enfield Farms, Inc.; Maberry Packing; and Rader Farms, Inc., and respondents, Arlavan S.A. (“Arlavan”), Fruticola Olmue S.A. (“Olmue”), Santiago Comercio Exterior Exportaciones S.A. (“SANCO”), Valle Frio/Framparque, Valles Andinos S.A. (“Valles Andinos”), Vital Berry Marketing S.A. (“VBM”), and Alimentos Naturales Vitafoods S.A. (“Vitafoods”). On October 23, 2006, the petitioners, Arlavan, Olmue, VBM, Valle Frio/Framparque, and Valles Andinos filed rebuttal briefs. On December 26, 2006, Valle Frio/ Framparque filed comments relating to their verification. We did not receive rebuttals to the December 26, 2006 comments.

On October 25, 2006, we extended the deadline for the final results to February 5, 2007. See Certain Individually Quick Frozen Red Raspberries from Chile: Extension of the Time Limit for the Final Results of Antidumping Duty Administrative Review, 71 FR 64244 (November 1, 2006).

Scope of the Order

The products covered by this order are imports of IQF whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under subheading 0811.20.2020 of the Harmonized Tariff Schedule of the United States (“HTSUS”). Although the HTSUS subheading is provided for convenience and customs purposes, the written description of the merchandise under the order is dispositive.

Period of Review

The period of review (“POR”) is July 1, 2004, through June 30, 2005.

Verification

As provided in section 782(i) of the Tariff Act of 1930, as amended (“the Act”), during October 2006, we verified the cost information provided by Valle Frio and Framparque in Chile using standard verification procedures, including examination of relevant financial records and selection of original documentation containing relevant information. The Department reported its findings on December 18, 2006. See Memorandum from Angela S. Strom and Heidi K. Schriefer to the File, “Verification of the Cost Response of Valle Frio in the 2004-2005 Administrative Review of the Antidumping Duty Order of Individually Quick Frozen Red Raspberries from Chile,” dated December 18, 2006 (“Cost Verification Report - Valle Frio”), which is on file in the Central Records Unit (“CRU”) in room B-099 of the main Department building.

As explained in the Preliminary Results, during March to April 2006, we verified the sales and cost information provided by Olmue and SANCO in Chile using standard verification procedures, including examination of relevant sales and financial records, and selection of original documentation containing relevant information. The Department reported its findings on July 5, July 6, and July 27, 2006. See Memorandum to the File, “Verification of the Sales Response of Santiago Comercio Exterior S.A. in the 2004-2005 Antidumping Duty Administrative Review of Individually Quick Frozen Red Raspberries from Chile,” dated July 5, 2006; Memorandum to the File, “Verification of the Cost Response of Santiago Comercio Exterior S.A. in the Antidumping Review of Individually Quick Frozen Red Raspberries from Chile,” dated July 6, 2006; and Memorandum to the File, “Verification of the Sales and Cost of Production Responses of Fruticola Olmué S.A. in the 2004-2005 Antidumping Duty Administrative Review of Individually Quick Frozen Red Raspberries from Chile,” dated July 27, 2006. These reports are on file in the CRU in room B-099 of the main Department building.

Determination to Revoke In Part

The Department “may revoke, in whole or part” an antidumping order upon completion of a review under section 751 of the Act. While Congress has not specified the procedures that the Department must follow in revoking an order, the Department has developed a procedure for revocation that is described in 19 CFR 351.222(b)(2). In determining whether to revoke an antidumping duty order in part, the Secretary will consider: (A) whether one or more exporters or producers covered by the order have sold the merchandise at not less than normal value (“NV”) for a period of at least three consecutive years; (B) whether, for any exporter or producer that the Secretary previously has determined to have sold the subject merchandise at less than NV, the exporter or producer agrees in writing to its immediate reinstatement in the order, as long as any exporter or producer is subject to the order, if the Secretary concludes that the exporter or producer, subsequent to the revocation, sold the subject merchandise at less than NV; and (C) whether the continued application of the antidumping duty order is otherwise necessary to offset dumping.

The Department's regulations require, inter alia, that a company requesting revocation submit the following: (1) a certification that the company has sold the subject merchandise at not less than NV in the current review period and that the company will not sell at less than NV in the future; (2) a certification that the company sold the subject merchandise in commercial quantities in each of the three years forming the basis of the receipt of such a request; and (3) an agreement that the order will be reinstated if the company is subsequently found to be selling the subject merchandise at less than fair value. See 19 CFR 351.222(e)(1)(i)-(iii). See, e.g., Notice of Final Results of Antidumping Duty Administrative Review and Determination Not to Revoke the Antidumping Duty Order: Brass Sheet and Strip From the Netherlands, 65 FR 742, 743 (January 6, 2000).

On July 29, 2005, pursuant to 19 CFR 351.222(e)(1), SANCO requested revocation of the antidumping duty order as it pertains to that company. With its request for revocation, SANCO provided each of the certifications required under 19 CFR 351.222(e). Consistent with the Preliminary Results, we continue to find that the request from SANCO meets all of the criteria under 19 CFR 351.222(e)(1).

As explained in the preliminary and these final results, our calculations show that SANCO sold IQF red raspberries at not less than NV during the current review period. In addition, SANCO sold IQF red raspberries at not less than NV during the 2003-2004 and 2001-2003 review periods (i.e., SANCO's dumping margin was zero or de minimis). See Notice of Final Results of Antidumping Duty Administrative Review: Individually Quick Frozen Red Raspberries From Chile, 70 FR 6618, 6620 (Feb. 8, 2005), covering the period December 31, 2001, through June 30, 2003; see also Individually Quick Frozen Red Raspberries from Chile: Notice of Final Results of Antidumping Duty Administrative Review, 70 FR 72788 (Dec. 7, 2005), covering the period July 1, 2003, through June 30, 2004.

Moreover, based on our examination of the sales data submitted by SANCO, we find that SANCO sold the subject merchandise in the United States in commercial quantities in each of the consecutive years cited by SANCO to support its request for revocation. See Memorandum from Yasmin Bordas to Stephen J. Claeys, “Preliminary Determination to Revoke in Part the Antidumping Duty Order on Individually Quick Frozen Red Raspberries from Chile for Santiago Comercio Exterior Exportaciones Sociedad Anonima,” dated July 31, 2006, which is on file in room B-099 of the CRU.

Finally, we find that application of the antidumping order to SANCO is no longer warranted for the following reasons: (1) as noted above, the company had zero or de minimis margins for a period of at least three consecutive years; (2) the company has agreed to immediate reinstatement of the order if the Department finds that it has resumed making sales at less than NV; and (3) the continued application of the order is not otherwise necessary to offset dumping.

Therefore, we determine that SANCO qualifies for revocation of the order on IQF red raspberries pursuant to 19 CFR 351.222(b)(2) and that the order, with respect to subject merchandise exported by SANCO, should be revoked. In accordance with 19 CFR 351.222(f)(3), we are terminating the suspension of liquidation for subject merchandise exported by SANCO that was entered, or withdrawn from warehouse, for consumption on or after July 1, 2005, and will instruct U.S. Customs and Border Protection (“CBP”) to refund with interest any cash deposits for such entries.

Collapsing Determination

As explained in the Preliminary Results, we have determined that Framparque should be collapsed with Valle Frio for the purposes of this review. See Memorandum to Susan Kuhbach, Director, “Collapsing of Sociedad Agroindustrial Valle Frio Ltda.,” dated July 31, 2006.

Analysis of Comments Received

All issues raised in the case and rebuttal briefs by parties to this review are addressed in the February 5, 2007, Issues and Decision Memorandum for the Third Antidumping Duty Administrative Review of Individually Quick Frozen Red Raspberries from Chile (“Decision Memorandum”), which is hereby adopted by this notice. Attached to this notice as an appendix is a list of the issues which parties have raised and to which we have responded in the Decision Memorandum. Parties can find a complete discussion of all issues raised in this review and the corresponding recommendations in this public memorandum, which is on file in the Department's CRU. In addition, a complete version of the Decision Memorandum can be accessed directly on the Web at http://ia.ita.doc.gov/frn. The paper copy and electronic version of the Decision Memorandum are identical in content.

For SANCO, Vitafoods, and Valles Andinos, we made no changes to the calculations from the Preliminary Results. See Memorandum from Team, through Brandon Farlander, to the File, “Preliminary Results Calculation Memorandum for Santiago Comercio Exterior Exportaciones Sociedad Anonima,” dated July 31, 2006; Memorandum from Team, through Brandon Farlander, to the File, “Preliminary Results Calculation Memorandum for Alimentos Naturales Vitafoods S.A.,” dated July 31, 2006; Memorandum from Team, through Brandon Farlander, to the File, “Preliminary Results Calculation Memorandum for Valles Andinos, S.A.,” dated July 31, 2006; which are on file in the Department's CRU.

Use of Facts Otherwise Available

Pursuant to section 776 of the Act, and for the reasons explained in the Preliminary Results, we have continued to apply adverse facts available (“AFA”) for the cost of production (“COP”) of the merchandise under review that was supplied by Arlavan's non-responsive supplier, DICAF Exportaciones Ltd. (“DICAF”).¹ However, for the final results, we have changed the calculation methodology for this COP. See Changes Since the Preliminary Results: Arlavan, below.

¹ We note that in the Preliminary Results, we stated that we were applying AFA pursuant to section 776(a)(1)(D), which is the provision for application of facts available when information cannot be verified. Our analysis, however, is based on section 776(a)(1)(A), the provision for application of facts available when an interested party withholds requested information, and section 776(b) and (c).

For the reasons explained in the Preliminary Results, we have continued to apply neutral facts available to one of Olmue's reported control numbers for which it did not provide COP information. See Memorandum from Team, through Brandon Farlander, to the File, “Preliminary Results Calculation Memorandum for Fruticola Olmué S.A.,” dated July 31, 2006.

Changes Since the Preliminary Results

Based on our findings at verification, and analysis of comments received, for Arlavan, Olmue, Valle Frio/Framparque, and VBM, we have made adjustments to the preliminary results calculation methodologies in calculating the final dumping margins in these proceedings. Brief descriptions of the company-specific changes are discussed below.

Arlavan

We modified our methodology for calculating the COP of the merchandise that was supplied to Arlavan by DICAF Exportaciones Ltd. (“DICAF”)/Agroindustrial del Maule (“Agromaule”).² Because DICAF/Agromaule did not respond to our questionnaire, we based DICAF/Agromaule's cost on AFA. In the preliminary results, for each form of the merchandise under review, we calculated the simple average of the three highest COPs among all producers and used this as the DICAF/Agromaule COP. For the final results, we have used a weighted average of the COPs of the two producers who had the highest COPs of whole and non-whole finished IQF red raspberries. See Memorandum from Team, through Brandon Farlander, to the File, “Final Results Calculation Memorandum for Arlavan S.A.,” dated February 5, 2007.

² Although DICAF and Agromaule are legally two separate entities, the products, services, and personnel, as well as contact information, were the same. Although separately incorporated, Agromaule has the same familial ownership as DICAF. We refer in the remainder of this memorandum to “DICAF/Agromaule.” For additional explanation of company ownership, see Preliminary Results at 45004.

Olmue

We corrected a clerical error in the comparison market and margin programs. Specifically, we placed parentheses around the summation of the gross unit price and billing adjustment variables in the recalculation of certain credit expenses, as necessary. See Memorandum from Team, through Brandon Farlander, to the File, “Final Results Calculation Memorandum for Fruticola Olmue S.A.,” dated February 5, 2007.

Valle Frio/Framparque

For the final results, we used Valle Frio/Framparque's revised comparison market packing expenses as a result of errors discovered at verification. See Memorandum from Team, through Brandon Farlander, to the File, “Final Results Calculation Memorandum for Sociedad Agroindustrial Valle Frio Ltda./Agricola Framparque,” dated February 5, 2007.

We made the following adjustments to Valle Frio's costs used in the Preliminary Results.

• We adjusted direct material, variable overhead and fixed overhead costs based on the information obtained at verification.

• We reclassified a portion of the reported indirect selling expenses as general and administrative (“G&A”) expenses based on the corrections to the allocation criteria discovered at verification.

• We adjusted the cost of sales denominator used to compute the G&A and financial expense ratios in accordance with the specific adjustments made to cost of manufacturing (“COM”).

We made the following adjustments to Framparque's costs used in the Preliminary Results.

• We used Framparque's cost buildup that was corrected at verification to calculate the costs of merchandise sold to the third country market. Using this cost buildup, we made additional adjustments to the direct material costs and have recalculated direct labor, variable overhead and fixed overhead costs.

• Consistent with the Preliminary Results, we removed all G&A and financial expense items from the variable overhead cost calculation, included these amounts in the numerator of the G&A and financial expense ratios, and computed the G&A and financial expense ratios for the fiscal year.

• We adjusted the cost of sales denominator used to compute the G&A and financial expense ratios in accordance with the specific adjustments made to COM.

See Memorandum from Angela Strom to Neal Halper, “Cost of Production and Constructed Value Calculation Adjustments for the Final Results - Sociedad Agroindustrial Valle Frio Ltda./Agricola Framparque,” dated February 5, 2007 (“Valle Frio/Framparque Cost Calculation Memorandum”); see also Cost Verification Report - Valle Frio.

VBM

• We revised the freight costs for two home market sales, pursuant to a clerical error correction letter submitted by VBM on October 12, 2006, and additional supporting documentation submitted by VBM on November 27, 2006. See Letter submitted to the Department by VBM, “Clarification of Information on the Record,” dated October 12, 2006; see also VBM's Supplemental Questionnaire Response, dated November 27, 2006. For additional discussion of this change, see Decision Memorandum at Comment 15.

• In the computer program used to calculate NV, we have corrected a currency conversion error for VBM's warehousing expenses. See Memorandum from Team, through Brandon Farlander, to the File, “Final Results Calculation Memorandum for Vital Berry Marketing S.A.,” dated February 5, 2007. For additional discussion of this change, see Decision Memorandum at Comment 16.

Results of the COP Test

Pursuant to section 773(b)(2)(C)(i) of the Act, where less than 20 percent of sales of a given product were at prices less than the COP, we did not disregard any below-cost sales of that product because we determined that the below-cost sales were not made in “substantial quantities.” Where 20 percent or more of a respondent's sales of a given product during the POR were at prices less than the COP, we determined such sales to have been made in “substantial quantities.” See section 773(b)(2)(C) of the Act. The sales were made within an extended period of time in accordance with section 773(b)(2)(B) of the Act, because we examined below-cost sales occurring during the entire POR. In such cases, because we compared prices to POR-average costs, we also determined that such sales were not made at prices which would permit recovery of all costs within a reasonable period of time, in accordance with section 773(b)(2)(D) of the Act.

For Olmue, Valles Andinos, VBM, and Vitafoods, we found that, for certain products, more than 20 percent of comparison market sales were at prices less than the COP and, thus, the below-cost sales were made within an extended period of time in substantial quantities. In addition, these sales were made at prices that did not provide for the recovery of costs within a reasonable period of time. We therefore excluded these sales and used the remaining sales, if any, as the basis for determining NV, in accordance with section 773(b)(1) of the Act.

Final Results of Review

As a result of our review, we determine that the following weighted-average margins exist for the period of July 1, 2004, through June 30, 2005:

Exporter/manufacturer | Weighted-average margin percentage
Alimentos Naturales Vitafoods S.A. | 0.00
Arlavan S.A. | 3.39
Fruticola Olmue S.A. | 0.01 (de minimis)
Santiago Comercio Exterior Exportaciones S.A. | (de minimis)
Sociedad Agroindustrial Valle Frio Ltda./Agricola Framparque | 2.59
Valles Andinos S.A. | 6.42
Vital Berry Marketing, S.A. | 0.10 (de minimis)

Assessment Rates

The Department shall determine, and CBP shall assess, antidumping duties on all appropriate entries.

Pursuant to 19 CFR 351.212(b)(1), for all sales made by respondents for which they have reported the importer of record and the entered value of the U.S. sales, we have calculated importer-specific assessment rates based on the ratio of the total amount of antidumping duties calculated for the examined sales to the total entered value of those sales.

Where the respondents did not report the entered value for U.S. sales, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent).

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department intends to issue assessment instructions to CBP 15 days after the date of publication of these final results of review.

Cash Deposit Requirements

We are revoking the order in part, with respect to SANCO. Therefore, no future cash deposits will be required for the subject merchandise exported by SANCO. For all other exporters/manufacturers, the following antidumping duty deposits will be required on all shipments of IQF red raspberries from Chile entered, or withdrawn from warehouse, for consumption, effective on or after the publication date of the final results of this administrative review, as provided by section 751(a)(1) of the Act: (1) the cash deposit rate for the reviewed companies will be the rates established in the final results of this administrative review (except no cash deposit will be required if its weighted-average margin is de minimis, i.e., less than 0.5 percent); (2) for merchandise exported by manufacturers or exporters not covered in this review but covered in the original less-than-fair-value investigation or a previous review, the cash deposit rate will continue to be the most recent rate published in the final determination or final results for which the manufacturer or exporter received an individual rate; (3) if the exporter is not a firm covered in this review, a previous review, or the original investigation, but the manufacturer is, the cash deposit rate will be the rate established for the most recent period for the manufacturer of the merchandise; and (4) if neither the exporter nor the manufacturer is a firm covered in this or any previous review, the cash deposit rate will be 6.33 percent, the “all others” rate established in Notice of Amended Final Determination of Sales at Less Than Fair Value: IQF Red Raspberries from Chile, 67 FR 40270 (June 12, 2002).

Notification to Importers

This notice also serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results in accordance with sections 751(a)(1) and 777(i)(1) of the Act.

Dated: February 5, 2007.
David M. Spooner,
Assistant Secretary for Import Administration.

APPENDIX I

List of Comments in the Decision Memorandum

General Comments

Comment 1: Direct Material Valuation

Comment 2: Treatment of Sales Made Above Normal Value

Comments Relating to Santiago Comercio Exportaciones Exterior S.A.

Comment 3: Valuation of IQF-Quality Fresh Raspberries Used to Produce Non-whole Frozen Raspberry Products

Comment 4: By-product Cost Treatment for Other Non-whole Raspberry Products

Comment 5: Affiliated Processor's General and Administrative Expenses and Interest Expenses

Comment 6: General and Administrative Expenses Rate Calculation

Comment 7: Gain on Revaluation of Non-monetary Assets and Liabilities

Comments Relating to Arlavan S.A.

Comment 8: Application of Adverse Facts Available for Cost of Production of Arlavan's Non-Responsive Supplier

Comments Relating to Sociedad Agroindustrial Valle Frio Ltda.

Comment 9: Valle Frio's Packing Expenses

Comment 10: Valle Frio's Indirect Selling Expense Ratio

Comment 11: Wages and Professional Fees in Agricola Framparque's General and Administrative Expense Ratio

Comment 12: Valle Frio's Production Quantities

Comment 13: General and Administrative Expense Ratio Calculation

Comments Relating to Fruticola Olmue S.A.

Comment 14: Clerical Error Concerning Certain of Olmue's Credit Expenses

Comments Relating to Vital Berry Marketing S.A.

Comment 15: Clerical Errors Made by VBM

Comment 16: Clerical Error Made by the Department

[FR Doc. E7-2371 Filed 2-9-02; 8:45 am]

BILLING CODE 3510-DS-S